DEPARTMENT OF DEFENSE

Office of the Secretary

[Transmittal No. 22-47]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-47 with attached Policy Justification and Sensitivity of Technology.

Dated: June 10, 2024.
Aaron T. Siegel,
Alternate OSD Federal Register Liaison Officer, Department of Defense.

BILLING CODE 6001-FR-P

BILLING CODE 6001-FR-C

Transmittal No. 22-47

Notice of Proposed Issuance of Letter of Offer Pursuant to Section 36(b)(1) of the Arms Export Control Act, as Amended

(i) Prospective Purchaser: Government of the Netherlands

(ii) Total Estimated Value:

Major Defense Equipment * | $0.815 billion
Other | $0.404 billion
TOTAL | $1.219 billion

(iii) Description and Quantity or Quantities of Articles or Services under Consideration for Purchase:

Major Defense Equipment (MDE):

Ninety-six (96) PATRIOT MIM-104E Guidance Enhanced Missile-Tactical (GEM-T) Ballistic Missiles

Non-MDE:

Also included are tools and test equipment; range and test programs; support equipment to include associated publications and technical documentation; training equipment; spare and repair parts; new equipment training; transportation; Quality Assurance Team support; U.S. Government and contractor technical assistance, engineering, and logistics support services; Systems Integration and Checkout (SICO); field office support; International Engineering Services Program Field Surveillance Program; and other related elements of logistics and program support.

(iv) Military Department: Army (NE-B-YAS)

(v) Prior Related Cases, if any: NE-B-YAF

(vi) Sales Commission, Fee, etc., Paid, Offered, or Agreed to be Paid: None

(vii) Sensitivity of Technology Contained in the Defense Article or Defense Services Proposed to be Sold: See Attached Annex

(viii) Date Report Delivered to Congress: July 21, 2022

* As defined in Section 47(6) of the Arms Export Control Act.

POLICY JUSTIFICATION

The Netherlands—PATRIOT MIM-104E Guidance Enhanced Missile-Tactical (GEM-T) Ballistic Missiles

The Government of the Netherlands has requested to buy ninety-six (96) PATRIOT MIM-104E GEM-T ballistic missiles. Also included are tools and test equipment; range and test programs; support equipment to include associated publications and technical documentation; training equipment; spare and repair parts; new equipment training; transportation; Quality Assurance Team support; U.S. Government and contractor technical assistance, engineering, and logistics support services; SICO; field office support; International Engineering Services Program Field Surveillance Program; and other related elements of logistics and program support. The estimated total cost is $1.219 billion.

This proposed sale will support the foreign policy and national security objectives of the United States by helping to improve the security of a NATO ally that is an important force for political stability and economic progress in Europe.

The proposed sale will improve the Netherlands' capability to meet current and future threats. The proposed sale will increase the defensive capabilities of the Netherlands' military and supports its goal of improving national and territorial defense as well as interoperability with U.S. and NATO forces. The Netherlands will have no difficulty absorbing this equipment into its armed forces.

The proposed sale of this equipment and support will not alter the basic military balance in the region.

The prime contractor will be Raytheon Corporation, Tewksbury, MA. The purchaser normally requests offsets. At this time, offset agreements are undetermined and will be defined in negotiations between the purchaser and contractors.

Implementation of this proposed sale will not require the assignment of any additional U.S. Government or contractor representatives to the Netherlands.

There is no adverse impact on U.S. defense readiness as a result of this proposed sale.

Transmittal No. 22-47

Notice of Proposed Issuance of Letter of Offer Pursuant to Section 36(b)(1) of the Arms Export Control Act

Annex

Item No. vii

(vii) Sensitivity of Technology:

1. The PATRIOT MIM-104E GEM-T Ballistic Missile is the latest in-production series of the highly successful Raytheon Patriot missile variants available to both U.S. forces and international customers. GEM-T adds a low-noise oscillator for improved acquisition and tracking performance in clutter and provides an upgraded capability to defeat tactical ballistic missile TBM, aircraft and cruise missile threats in complement to the PAC-3 missile.

2. The highest level of classification of defense articles, components, and services included in this potential sale is CONFIDENTIAL.

3. If a technologically advanced adversary were to obtain knowledge of the specific hardware and software elements, the information could be used to develop countermeasures that might reduce weapon system effectiveness or be used in the development of a system with similar or advanced capabilities.

4. A determination has been made that the Netherlands can provide substantially the same degree of protection for the sensitive technology being released as the U.S. Government. This sale is necessary in furtherance of the U.S. foreign policy and national security objectives outlined in the Policy Justification.

5. All defense articles and services listed in this transmittal have been authorized for release and export to the Government of the Netherlands.

[FR Doc. 2024-12951 Filed 6-12-24; 8:45 am]

BILLING CODE 6001-FR-P